DEPARTMENT OF TRANSPORTATION

Federal Aviation Administration

14 CFR Part 39

[Docket No. 99-NM-362-AD; Amendment 39-11719; AD 2000-09-10]

RIN 2120-AA64

Airworthiness Directives; Airbus Model A300-600 Series Airplanes

AGENCY: Federal Aviation Administration, DOT.

ACTION: Final rule.

SUMMARY: This amendment adopts a new airworthiness directive (AD), applicable to certain Airbus Model A300-600 series airplanes, that requires modification of certain electrical looms of the nose and main landing gear and modification of the rotor shaft attachment of the nose and main landing gear tachometers. This amendment is prompted by issuance of mandatory continuing airworthiness information by a foreign civil airworthiness authority. The actions specified by this AD are intended to prevent erratic operation of the wheel tachometers, which could result in degradation of the braking performance, and possible increased landing roll.

DATES: Effective June 16, 2000.

The incorporation by reference of certain publications listed in the regulations is approved by the Director of the Federal Register as of June 16, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A300-600 series airplanes was published in the Federal Register on February 24, 2000 (65 FR 9223). That action proposed to require modification of certain electrical looms of the nose and main landing gear and modification of the rotor shaft attachment of the nose and main landing gear tachometers.

Comments

Interested persons have been afforded an opportunity to participate in the making of this amendment. No comments were submitted in response to the proposal or the FAA's determination of the cost to the public.

Conclusion

The FAA has determined that air safety and the public interest require the adoption of the rule as proposed.

Cost Impact

The FAA estimates that 79 airplanes of U.S. registry will be affected by this AD.

It will take approximately 7 work hours per airplane to accomplish the required modification of the electrical looms, at an average labor rate of $60 per work hour. Required parts will cost approximately $687 per airplane. Based on these figures, the cost impact of the modification of the electrical looms required by this AD on U.S. operators is estimated to be $87,453, or $1,107 per airplane.

It will take approximately 13 work hours per airplane to accomplish the required modification of the rotor shaft attachment, at an average labor rate of $60 per work hour. Required parts will cost approximately $169 per airplane. Based on these figures, the cost impact of the modification of the rotor shaft attachment required by this AD on U.S. operators is estimated to be $74,971, or $949 per airplane.

The cost impact figures discussed above are based on assumptions that no operator has yet accomplished any of the proposed requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-09-10 Airbus Industrie: Amendment 39-11719. Docket 99-NM-362-AD.

Applicability: Model A300-600 series airplanes, certificated in any category, except those airplanes on which Airbus Modifications 11661 and 11676 (Airbus Service Bulletin A300-32-6069) and 12095 (Airbus Service Bulletin A300-32-6077) have been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent erratic operation of the wheel tachometers, which could result in degradation of the braking performance, and possible increased landing roll, accomplish the following:

Modifications

(a) Within 18 months after the effective date of this AD, accomplish the requirements of paragraphs (a)(1) and (a)(2) of this AD.

(1) Modify the electrical looms of the nose and main landing gear, in accordance with Airbus Service Bulletin A300-32-6069, Revision 01, dated December 29, 1999; and

(2) Modify the rotor shaft attachment of the nose and main landing gear tachometers, in accordance with Airbus Service Bulletin A300-32-6077, Revision 01, dated September 25, 1999.

Note 2: Messier-Dowty Service Bulletins 470-32-779, dated April 14, 1997, and 470-32-777, dated July 1, 1997, are referenced in Airbus Service Bulletin A300-32-6069. Messier-Bugatti Service Bulletin C20105-32-782, dated October 17, 1996, is referenced in Airbus Service Bulletin A300-32-6077. The Messier-Dowty and Messier-Bugatti service bulletins are additional sources of service information for accomplishing the applicable actions required by this AD.

Note 3: Accomplishment of the modifications required by paragraph (a) of this AD, prior to the effective date of this AD, in accordance with Airbus Service Bulletin A300-32-6069, dated June 13, 1997, or A300-32-6077, dated May 28, 1999, is considered acceptable for compliance with the applicable requirements specified by this AD.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The modifications shall be done in accordance with Airbus Service Bulletin A300-32-6069, Revision 01, dated December 29, 1999; and Airbus Service Bulletin A300-32-6077, Revision 01, dated September 25, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1999-428-295(B), dated November 3, 1999.

(e) This amendment becomes effective on June 16, 2000.

Issued in Renton, Washington, on May 3, 2000.
Vi L. Lipski,
Acting Manager, Transport Airplane Directorate, Aircraft Certification Service.

[FR Doc. 00-11548 Filed 5-11-00; 8:45 am]

BILLING CODE 4910-13-P